DEPARTMENT OF COMMERCE

National Oceanic and Atmospheric Administration

50 CFR Part 665

[RTID 0648-XC197]

Pacific Island Fisheries; 2022 U.S. Territorial Longline Bigeye Tuna Catch Limits for the Commonwealth of the Northern Mariana Islands

AGENCY: National Marine Fisheries Service (NMFS), National Oceanic and Atmospheric Administration (NOAA), Commerce.

ACTION: Announcement of a valid specified fishing agreement.

SUMMARY: NMFS announces a valid specified fishing agreement that allocates up to 1,500 metric tons (t) of the 2022 bigeye tuna limit for the Commonwealth of the Northern Mariana Islands (CNMI) to U.S. longline fishing vessels. The agreement supports the long-term sustainability of fishery resources of the U.S. Pacific Islands and fisheries development in the CNMI.

DATES: The specified fishing agreement was valid as of July 21, 2022. The start date for attributing 2022 bigeye tuna catch to the CNMI is November 21, 2022.

ADDRESSES: The Fishery Ecosystem Plan for Pelagic Fisheries of the Western Pacific (FEP) describes specified fishing agreements and is available from the Western Pacific Fishery Management Council (Council), 1164 Bishop St., Suite 1400, Honolulu, HI 96813, telephone: 808-522-8220, fax: 808-522-8226, or http://www.wpcouncil.org.

NMFS prepared environmental analyses that describe the potential impacts on the human environment that would result from the action. The analyses, identified by NOAA-NMFS-2021-0076, are available from https://www.regulations.gov/search/docket?filter=NOAA-NMFS-2021-0076, or from Sarah Malloy, Acting Regional Administrator, NMFS Pacific Islands Region (PIR), 1845 Wasp Blvd., Bldg. 176, Honolulu, HI 96818.

FOR FURTHER INFORMATION CONTACT: Keith Kamikawa, NMFS PIR Office of Sustainable Fisheries, 808-725-5177.

SUPPLEMENTARY INFORMATION: In a final rule published on December 29, 2021, NMFS specified a 2022 limit of 2,000 t of longline-caught bigeye tuna for each of the U.S. Pacific Island territories of American Samoa, Guam, and the Commonwealth of the Northern Mariana Islands (86 FR 73990). NMFS allows each territory to allocate up to 1,500 t of the 2,000 t limit to U.S. longline fishing vessels identified in a valid specified fishing agreement, but the overall allocation limit among all territories may not exceed 3,000 t.

On March 29, 2022, NMFS determined that the U.S. longline fishery exceeded by 196 t the 3,554 t 2021 U.S. bigeye tuna catch limit in the area of application of the Convention on the Conservation and Management of Highly Migratory Fish Stocks in the Western and Central Pacific Ocean (WCPO) as established in regulations at 50 CFR 300.224. Western and Central Pacific Fisheries Commission (WCPFC) Conservation and Management Measure (CMM) 2021-01, Paragraph 37, states that where the limit has been exceeded, any overage of the limit shall be deducted from the catch limit for the following year. In accordance with U.S. obligations as a WCPFC member, NMFS must reduce the 2022 U.S. bigeye tuna limit by the amount of the overage of 196 t. NMFS has prepared a separate regulatory package that would revise the 2022 U.S. bigeye tuna limit to 3,358 t (87 FR 55768, September 12, 2022). Although the revised limit is not yet effective, NMFS is basing its decisions for attributing bigeye catch under valid specified fishing agreements with U.S. participating territories pursuant to 50 CFR 665.819(c)(9)(i) on this 3,358 t limit to ensure compliance with CMM 2021-01.

On June 24, 2022, the Western Pacific Fishery Management Council (Council), through its Executive Director, sent NMFS a specified fishing agreement between American Samoa and Hawaii Longline Association (HLA), dated May 12, 2021. Later that same day, the Council sent NMFS a specified fishing agreement between the CNMI and HLA, dated May 7, 2021. These agreements each include an allocation of 1,500 t of bigeye tuna catch to U.S. vessels identified in the agreements for both 2021 and 2022. The 2022 agreement between American Samoa and HLA includes an amendment that provides an initial allocation of 1,300 t followed by a subsequent allocation, upon notification by HLA to American Samoa at a later date, of any unallocated portion of American Samoa's 1,500 t allocation limit. On July 20, 2022 and July 21, 2022, respectively, NMFS reviewed the American Samoa-HLA agreement and the CNMI-HLA agreement and determined that they are consistent with 50 CFR 665.819(c), the Fishery Ecosystem Plan for Pelagic Fisheries of the Western Pacific, the Magnuson-Stevens Fishery Conservation and Management Act, implementing regulations, and other applicable laws.

Pursuant to regulations at 50 CFR 665.819(c)(9)(i), NMFS began attributing bigeye tuna catches to American Samoa and the American Samoa-HLA agreement on August 25, 2022, 7 days before we projected the annual U.S. WCPO limit would be reached (87 FR 52704, August 29, 2022). We attributed catch first to the American Samoa limit and agreement because that agreement was received first from the Council for the year 2022.

Based on logbook data, we now forecast that the fishery will reach the American Samoa 1,300 t initial limit by November 28, 2022. In accordance with regulations at 50 CFR 665.819(c)(9)(ii), NMFS will begin attributing 2022 bigeye tuna catch to the CNMI and the CNMI-HLA agreement on November 21, 2022, 7 days prior to November 28, 2022.

If NMFS determines the fishery will reach the 1,500 t allocation limit for the CNMI-HLA agreement, we would restrict retention of bigeye tuna caught by vessels identified in the CNMI agreement. If at that time, HLA and American Samoa seek to resume attribution to American Samoa for up to the total of 1,500 t under their agreement, NMFS will determine if American Samoa's overall 2022 2,000 t limit can still accommodate any or all of that amount.

Authority: 16 U.S.C. 1801 et seq.

Dated: December 2, 2022.
Jennifer M. Wallace,
Acting Director, Office of Sustainable Fisheries, National Marine Fisheries Service.

[FR Doc. 2022-26613 Filed 12-6-22; 8:45 am]

BILLING CODE 3510-22-P